DEPARTMENT OF AGRICULTURE

Rural Housing Service

[Docket No. RHS-21-MFH-0008]

Notice of Solicitation of Applications for the Section 533 Housing Preservation Grants for Fiscal Year 2021

Correction

In notice document 2021-11564 appearing on pages 29555-29560 in the issue of June 2, 2021, make the following correction:

On page 29555, in the second column, under the DATES heading, in the fifth line, “July 7, 2021” should read “July 19, 2021”.

[FR Doc. C1-2021-11564 Filed 6-4-21; 8:45 am]

BILLING CODE 0099-10-D